DEPARTMENT OF COMMERCE

National Oceanic and Atmospheric Administration

[I.D. 071006B]

North Pacific Fishery Management Council; Notice of Committee Meeting

AGENCY: National Marine Fisheries Service (NMFS), National Oceanic and Atmospheric Administration (NOAA), Commerce.

ACTION: Committee meeting.

SUMMARY: The North Pacific Fishery Management Council's (Council) Steller Sea Lion Mitigation Committee (SSLMC) will meet in Seattle, Washington, July 28, 29, 2006.

DATES: July 28, 29, 2006-8:30 a.m. to 5 p.m.

ADDRESSES: Meeting place to be announced on Council web site at: www.fakr.noaa.gov/npfmc/

Council address: North Pacific Fishery Management Council, 605 W. 4th Ave., Suite 306, Anchorage, AK 99501-2252.

FOR FURTHER INFORMATION CONTACT: Bill Wilson, NPFMC, 907-271-2809.

SUPPLEMENTARY INFORMATION: The committee's agenda includes the following issues: Introductions and opening remarks, Minutes of last meeting; Update on consultation Process; Overview of Biological Assessment, Consultation Species, Other Consultations; Compendium of Steller Sea Lion (SSL) literature; Update on SSL and other marine mammal research: National Marine Mammal Laboratory SSL telemetry, Diet Studies; Sea Life Center Marine Mammal Research; Vancouver Aquarium and University British Columbia Marine Mammal Programs; Alaska Department of Fish & Game SSL Programs; and the AFSC Fishery Interaction Team Program. The Committee will discuss and delibrate on these issues.

These meetings are physically accessible to people with disabilities. Requests for sign language interpretation or other auxiliary aids should be directed to Gail Bendixen, 907-271-2809, at least 5 working days prior to the meeting date.

Dated: July 10, 2006.
Tracey L. Thompson,
Acting Director, Office of Sustainable Fisheries, National Marine Fisheries Service.

[FR Doc. E6-11023 Filed 7-12-06; 8:45 am]

BILLING CODE 3510-22-S